DEPARTMENT OF EDUCATION

Office of Innovation and Improvement; Overview Information; Teaching American History Grant Program; Notice Inviting Applications for New Awards for Fiscal Year (FY) 2010

Catalog of Federal Domestic Assistance (CFDA) Number: 84.215X.

Dates:

Applications Available: January 21, 2010.

Deadline for Notice of Intent To Apply: February 22, 2010.

Deadline for Transmittal of Applications: March 22, 2010.

Deadline for Intergovernmental Review: May 21, 2010.

Full Text of Announcement

I. Funding Opportunity Description

Purpose of Program: The Teaching American History Grant (TAH) Program supports projects that aim to raise student achievement by improving teachers' knowledge, understanding, and appreciation of traditional American history. Grant awards assist local educational agencies (LEAs), in partnership with entities that have extensive content expertise, in developing, implementing, documenting, evaluating, and disseminating innovative, cohesive models of professional development. By helping teachers to develop a deeper understanding and appreciation of traditional American history as a separate subject within the core curriculum, these programs are intended to improve instruction and raise student achievement.

Priorities: This competition includes one absolute priority and two invitational priorities that are explained in the following paragraphs.

Absolute Priority: In accordance with 34 CFR 75.105(b)(2)(iv), this priority is from section 2351 of the Elementary and Secondary Education Act of 1965, as amended (ESEA) (20 U.S.C. 6721(b)). For FY 2010 and any subsequent year in which we make awards from the list of unfunded applicants from this competition, this priority is an absolute priority. Under 34 CFR 75.105(c)(3) we consider only applications that meet this priority.

This priority is:

Partnerships With Other Agencies or Institutions.

Each applicant LEA must propose to work in partnership with one or more of the following:

• An institution of higher education.

• A non-profit history or humanities organization.

• A library or museum.

Invitational Priorities: For FY 2010 and any subsequent year in which we make awards from the list of unfunded applicants from this competition, these priorities are invitational priorities. Under 34 CFR 75.105(c)(1) we do not give an application that meets these invitational priorities a competitive or absolute preference over other applications.

These priorities are:

1. Applications that provide for the development and dissemination of grant products and results through Open Educational Resources (OER). OER are teaching, learning, and research resources that reside in the public domain or have been released under an intellectual property license that permits their free use or repurposing by others. This invitational priority encourages applications that describe how the applicants will make their TAH grant products and resources freely available online, in an effort to share traditional American history content, proven teaching strategies, and lessons learned in implementing TAH projects with the wider community of history educators.

Note: Each applicant addressing this priority is encouraged to include plans for how the applicant will disseminate resources, for example through a Web site that is freely available to all users. Each of these applicants is also encouraged to include plans specifying how the project will identify quality resources, such as lesson plans, primary source activities, reading lists, teacher reflections, and video of quality traditional American history teaching and student learning in action, for presentation to the wider community.

2. Applications that provide for the collection and use of student work and achievement data. This invitational priority encourages projects that collect and use student work and achievement data to assess the impact of teacher participation on student learning and for continuous program improvement.

Note: A goal of this program is to improve the quality of instruction of traditional American history in K-12 schools. Our purpose for establishing this priority is to support the collection and use of student work and achievement data that demonstrate increased or improved knowledge and understanding of traditional American history content by participating teachers and their students. The applicant is encouraged to address how its proposed professional development strategy will significantly improve both history teachers' abilities to teach traditional American history content and student performance with regard to traditional American history.

Program Authority: 20 U.S.C. 6721.

Applicable Regulations: (a) The Education Department General Administrative Regulations (EDGAR) in 34 CFR parts 75, 77, 79, 80, 81, 82, 84, 85, 86, 97, 98, and 99. (b) The notice of final selection criteria and other application requirements for this program, published in the Federal Register on April 15, 2005 (70 FR 19939). (c) The notice of final revisions to selection criteria, published in the Federal Register on December 23, 2008 (73 FR 78761).

Note: The regulations in 34 CFR part 79 apply to all applicants except federally recognized Indian tribes.

Note: The regulations in 34 CFR part 86 apply to institutions of higher education only.

II. Award Information

Type of Award: Discretionary grants.

Estimated Available Funds: $118,952,000.

We anticipate that initial awards under this competition will be made for a three-year (36 month) period.

Contingent upon the availability of funds and each grantee's substantial progress towards accomplishing the goals and objectives of the project as described in its approved application, we may make continuation awards to grantees for the remaining 24 months of the program. Review of each grantee's progress may include consideration of evidence of promising practice and strong evaluation design. Further, contingent upon the availability of funds and the quality of applications, we may make additional awards in FY 2011 from the list of unfunded applicants from this competition.

Maximum Award: The following maximum award amounts are from the notice of final selection criteria and other application requirements for this program, published in the Federal Register on April 15, 2005 (70 FR 19939).

(1) Total funding for a three-year project period is a maximum of $500,000 for LEAs with enrollments of less than 20,000 students; $1,000,000 for LEAs with enrollments of 20,000-300,000 students; and $2,000,000 for LEAs with enrollments above 300,000 students. LEAs may form consortia and combine their enrollments in order to receive a grant reflective of their combined enrollment. For districts applying jointly as a consortium, the maximum award is based on the combined enrollment of the individual districts in the consortium. See section III. Eligibility Information for information on joint applications.

(2) A maximum of one grant will be awarded per applicant per competition.

Estimated Number of Awards: 120-125.

Note: The Department is not bound by any estimates in this notice.

Project Period: Up to 60 months.

III. Eligibility Information

1. Eligible Applicants: LEAs, including charter schools that are considered LEAs under State law and regulations, which must work in partnership with one or more of the following entities:

• An institution of higher education.

• A non-profit history or humanities organization.

• A library or museum.

An LEA may form a consortium with one or more other LEAs and submit a joint application for funds. The consortium must follow the procedures for joint applications described in 34 CFR 75.127 through 75.129 of EDGAR.

2. Cost Sharing or Matching: This program does not require cost sharing or matching.

IV. Application and Submission Information

1. Address to Request Application Package: ED Pubs, U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this program or competition as follows: CFDA number 84.215X.

Individuals with disabilities can obtain a copy of the application package in an accessible format (e.g., braille, large print, audiotape, or computer diskette) by contacting either one of the two individuals listed under FOR FURTHER INFORMATION CONTACT in section VII of this notice.

2. Content and Form of Application Submission: Requirements concerning the content of an application, together with the forms you must submit, are in the application package for this program. Additional information about this competition and the application requirements also can be found at http://www.ed.gov/programs/teachinghistory/index.html.

Notice of Intent to Apply: The Department will be able to develop a more efficient process for reviewing grant applications if it has a better understanding of the number of entities that intend to apply for funding under this competition. Therefore, the Secretary strongly encourages each potential applicant to notify the Department by sending a short e-mail message indicating the applicant's intent to submit an application for funding. The e-mail need not include information regarding the content of the proposed application, only the applicant's intent to submit it. The Secretary requests that this e-mail notification be sent to Alex Stein at: teachingamericanhistory@ed.gov.

Applicants that do not provide this e-mail notification may still apply for funding.

Page Limit: The application narrative (Part III of the application) is where you, the applicant, address the selection criteria that reviewers use to evaluate your application. Applicants are strongly encouraged to limit the application narrative and the appendix to a total of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract. However, the page limit does apply to all of the application narrative section (Part III). It also applies to the resumes, the bibliography, and letters of support which should be included in the appendix.

3. Submission Dates and Times:

Applications Available: January 21, 2010.

Deadline for Notice of Intent to Apply: February 22, 2010.

Deadline for Transmittal of Applications: March 22, 2010.

Applications for grants under this program must be submitted electronically using the Electronic Grant Application System (e-Application) accessible through the Department's e-Grants site. For information (including dates and times) about how to submit your application electronically, or in paper format by mail or hand delivery if you qualify for an exception to the electronic submission requirement, please refer to section IV. 6. Other Submission Requirements of this notice.

We do not consider an application that does not comply with the deadline requirements.

Individuals with disabilities who need an accommodation or auxiliary aid in connection with the application process should contact either one of the two individuals listed under FOR FURTHER INFORMATION CONTACT in section VII in this notice. If the Department provides an accommodation or auxiliary aid to an individual with a disability in connection with the application process, the individual's application remains subject to all other requirements and limitations in this notice.

Deadline for Intergovernmental Review: May 21, 2010.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Applications for grants under this program must be submitted electronically unless you qualify for an exception to this requirement in accordance with the instructions in this section.

a. Electronic Submission of Applications.

Applications for grants under the TAH Program—CFDA Number 84.215X must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Dr. Alex Stein, U.S. Department of Education, 400 Maryland Avenue, SW., Room 4W206, Washington, DC 20202. FAX: (202) 401-8466.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.215X), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.215X), 550 12th Street, SW., Room 7041, Potomac Center Plaza, Washington, DC 20202-4260. The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this program are from the notice of final selection criteria and other application requirements published in the Federal Register on April 15, 2005 (70 FR 19939) and from 34 CFR 75.210, as permitted under the notice of final revisions to selection criteria, published in the Federal Register on December 23, 2008 (73 FR 78761). The Department intends to conduct a two-tier review process for this competition. All eligible applications will be reviewed and scored on the first four criteria. Only applications that score highly on the first four criteria will then be reviewed and scored on the fifth criterion, Quality of the Project Evaluation. The Notes following the selection criteria are guidance to help applicants in preparing their applications and are not required by statute or regulations. The selection criteria are as follows:

(1) Project quality (35 points). The Secretary considers the quality of the proposed project by considering:

(a) The likelihood that the proposed project will develop, implement, and strengthen programs to teach traditional American history as a separate academic subject (not as a component of social studies) within elementary school and secondary school curricula.

(b) How specific traditional American history content (including the significant issues, episodes, and turning points in the history of the United States; how the words and deeds of individual Americans have determined the course of our Nation; and how the principles of freedom and democracy articulated in the founding documents of this Nation have shaped America's struggles and achievements and its social, political, and legal institutions and relations) will be covered by the grant; the format in which the project will deliver the history content; and the quality of the staff and consultants responsible for delivering these content-based professional development activities, emphasizing, where relevant, their postsecondary teaching experience and scholarship in subject areas relevant to the teaching of traditional American history. The applicant may also attach curriculum vitae for individuals who will provide the content training to the teachers.

(c) How well the applicant describes a plan that meets the statutory requirement to carry out activities under the grant in partnership with one or more of the following:

(i) An institution of higher education.

(ii) A non-profit history or humanities organization.

(iii) A library or museum.

(d) The applicant's rationale for selecting the partner(s) and its description of specific activities that the partner(s) will contribute to the grant during each year of the project. The applicant should include a memorandum of understanding or detailed letters of commitment from the partner(s) in an appendix to the application narrative.

Note: The Secretary encourages applicants to describe how the proposed history content addresses traditional American history as discussed in section V.(1)(b) of the Project quality criterion. Applicants are also encouraged to submit a detailed course of study for project participants, including a rationale for selecting the course of study, and a schedule of activities to be carried out. Finally, applicants are encouraged to discuss the role and commitment of each partner and document that each partner has been apprised of the partner's responsibilities for the project.

(2) Quality of the project design (35 points). In determining the quality of the project design, the Secretary considers:

(a) The extent to which there is a conceptual framework underlying the proposed research or demonstration activities and the quality of that framework.

(b) The extent to which the proposed activities constitute a coherent, sustained program of training in the field.

(c) The extent to which the proposed project is part of a comprehensive effort to improve teaching and learning and support rigorous academic standards for students.

(d) The extent to which the proposed project is designed to build capacity and yield results that will extend beyond the period of Federal financial assistance.

(3) Need for project (20 points). In determining the need for the proposed project, the Secretary considers:

(a) The magnitude or severity of the problem to be addressed by the proposed project.

(b) The magnitude of the need for the services to be provided or the activities to be carried out by the proposed project.

(c) The extent to which specific gaps or weaknesses in services, infrastructure, or opportunities have been identified and will be addressed by the proposed project, including the nature and magnitude of those gaps or weaknesses.

Note: The Secretary encourages applicants to provide information on the district's history program, including on the number of teachers, the teachers' qualifications and certifications, the history professional development currently being offered in the district, and student performance in American history class. The applicant is also encouraged to address how its proposed professional development strategy will significantly improve both history teachers' abilities to teach traditional American history content and student performance with regard to traditional American history. The Need for project criterion should address the history content needs of the teachers, not the socioeconomic needs of the teachers or the students they serve.

(4) Quality of the management plan (10 points). The Secretary considers the quality of the management plan for the proposed project. In determining the quality of the management plan for the proposed project, the Secretary considers the following factors:

(a) The adequacy of the management plan to achieve the objectives of the proposed project on time and within budget, including clearly defined responsibilities, timelines, and milestones for accomplishing project tasks.

(b) The extent to which the time commitments of the project director and other key project personnel are appropriate and adequate to meet the objective of the proposed project.

(c) The adequacy of procedures for ensuring feedback and continuous improvement in the operation of the proposed project.

Note: Section 75.112 of EDGAR requires that an applicant (a) propose a project period for the project and (b) include a narrative that describes how and when, in each budget period of the project, the applicant plans to meet each project objective. The Secretary encourages each applicant to address this criterion by including in this narrative, a clear implementation plan that includes annual timelines, key project milestones, and a schedule of activities, as well as a description of the personnel who would be responsible for each activity and the level of effort each activity entails.

(5) Quality of the project evaluation (25 points). The Secretary considers the quality of the evaluation to be conducted of the proposed project. In determining the quality of the evaluation, the Secretary considers the following factors:

(a) The extent to which the methods of evaluation include the use of objective performance measures that are clearly related to the intended outcomes of the project and will produce quantitative and qualitative data to the extent possible.

(b) How well the evaluation plans are aligned with the project design explained under the Project quality criterion.

(c) Whether the evaluation includes benchmarks to monitor progress toward specific project objectives, and outcome measures to assess the impact on teaching and learning or other important outcomes for project participants.

(d) Whether the applicant identifies the individual and/or organization that has agreed to serve as evaluator for the project and includes a description of the qualifications of that evaluator.

(e) The extent to which the applicant indicates the following:

(i) What types of data will be collected.

(ii) When various types of data will be collected.

(iii) What methods will be used to collect data.

(iv) What data collection instruments will be developed.

(v) How the data will be analyzed.

(vi) When reports of results and outcomes will be available.

(vii) How the applicant will use the information collected through the evaluation to monitor the progress of the funded project and to provide accountability information about both success at the initial site and effective strategies for replication in other settings.

(viii) How the applicant will devote an appropriate level of resources to project evaluation.

Note: The Secretary encourages each applicant to specify how the project's evaluation plan will address the TAH performance measures established by the Department under the Government Performance and Results Act of 1993 (GPRA). (The specific performance measures established for the overall TAH Program are discussed under Performance Measures in section VI of this notice.) Further, each applicant is encouraged to describe how the applicant's evaluation plan will be designed to collect both output data (e.g., number of teachers participating in a project, number of workshops held) and outcome data (e.g., improvements in teacher classroom practice, increases in student history achievement). Finally, each applicant is encouraged to select an independent, objective evaluator who has experience in evaluating educational programs and who will play an active role in the design and development of the project. For resources on what to consider in designing and conducting project evaluations, go to http://www.whatworkshelpdesk.ed.gov/.

2. Applicant's Past Performance and Compliance History: In accordance with 34 CFR 75.217(d)(3)(ii) and (iii), the Secretary may consider an applicant's past performance and compliance history when evaluating applications and in making funding decisions.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: We have established two performance measures for the TAH Program. The measures are: (1) The average percentage change in the scores (on a pre-post assessment of American history) of participants who complete at least 75 percent of the professional development hours offered by the project. The assessment will be aligned with the content provided by the TAH project, and at least 50 percent of its questions will come from a validated test of American history, and (2) the percentage of TAH participants who complete 75 percent or more of the total hours of professional development offered. Grantees will be expected to provide data on the two measures.

VII. Agency Contacts

FOR FURTHER INFORMATION CONTACT: Alex Stein, Margarita Melendez, or Bonnie Carter, U.S. Department of Education, 400 Maryland Avenue, SW., Room 4W206, Washington, DC 20202-5960. Telephone: (202) 205-9085, (202) 260-3548, or (202) 401-3576 or by e-mail: TeachingAmericanHistory@ed.gov.

If you use a TDD, call the FRS, toll free, at 1-800-877-8339.

VIII. Other Information

Accessible Format: Individuals with disabilities can obtain this document and a copy of the application package in an accessible format (e.g., braille, large print, audiotape, or computer diskette) on request to the program contact persons listed under FOR FURTHER INFORMATION CONTACT in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: January 15, 2010.
James H. Shelton III,
Assistant Deputy Secretary for Innovation and Improvement.

[FR Doc. 2010-1083 Filed 1-20-10; 8:45 am]

BILLING CODE 4000-01-P